DEPARTMENT OF HEALTH AND HUMAN SERVICES

Centers for Disease Control and Prevention

Healthcare Infection Control Practices Advisory Committee (HICPAC)

In accordance with section 10(a)(2) of the Federal Advisory Committee Act (Pub. L. 92-463), the Centers for Disease Control and Prevention (CDC) announces the following meeting for the aforementioned committee:

Times and Dates: 9 a.m.-5 p.m., February 11, 2010. 9 a.m.-12 p.m., February 12, 2010.

Place: CDC, Global Communications Center, Building 19, Auditorium B3, 1600 Clifton Road, NE., Atlanta, Georgia 30333.

Status: Open to the public, limited only by the space available.

Purpose: The Committee is charged with providing advice and guidance to the Secretary; the Assistant Secretary for Health; the Director, CDC; and the Director, National Center for Preparedness, Detection, and Control of Infectious Diseases (NCPDCID), regarding: (1) The practice of hospital infection control; (2) strategies for surveillance, prevention, and control of infections (e.g., nosocomial infections), antimicrobial resistance, and related events in settings where healthcare is provided; and (3) periodic updating of guidelines and other policy statements regarding prevention of healthcare-associated infections and healthcare-related conditions.

Matters To Be Discussed: The agenda will include updates on CDC healthcare-associated infections Recovery Act efforts; discussion on the draft guideline for prevention of intravascular catheter-related bloodstream infections; and the draft guideline for the prevention and management of norovirus gastroenteritis outbreaks in healthcare settings.

Agenda items are subject to change as priorities dictate.

For Further Information Contact: Michelle W. King, Committee Management Specialist, Division of Healthcare Quality Promotion, NCPDCID, CDC, 1600 Clifton Road, NE., Mailstop A-07, Atlanta, Georgia 30333, Telephone (404) 639-2936.

The Director, Management Analysis and Services Office, has been delegated the authority to sign Federal Register notices pertaining to announcements of meetings and other committee management activities, for both CDC and the Agency for Toxic Substances and Disease Registry.

Dated: January 15, 2010.
Elaine L. Baker,
Director, Management Analysis and Services Office, Centers for Disease Control and Prevention (CDC) .

[FR Doc. 2010-1275 Filed 1-22-10; 8:45 am]

BILLING CODE 4163-18-P